JUDICIAL CONFERENCE OF THE UNITED STATES

Meeting of the Judicial Conference Committee on Rules of Practice and Procedure

AGENCY: Judicial Conference of the United States Advisory Committee on Rules of Criminal Procedure.

ACTION: Notice of open meeting.

SUMMARY: The Advisory Committee on Rules of Criminal Procedure will hold a one-day meeting. The meeting will be open to public observation but not participation.

DATES: October 18, 2013.

Time: 8:30 a.m. to 5:00 p.m.

ADDRESSES: University of Utah, S.J. Quinney College of Law, 332 South 1400 East, Salt Lake City, UT 84112.

FOR FURTHER INFORMATION CONTACT: Jonathan C. Rose, Secretary and Chief Rules Officer, Rules Committee Support Office, Administrative Office of the United States Courts, Washington, DC 20544, telephone (202) 502-1820.

Dated: August 23, 2013.
Jonathan C. Rose,
Secretary and Chief Rules Officer .

[FR Doc. 2013-20980 Filed 8-27-13; 8:45 am]

BILLING CODE 2210-55-P